SECURITIES AND EXCHANGE COMMISSION

Proposed Collection; Comment Request

Upon Written Request, Copies Available From: Securities and Exchange Commission, Office of Filings and Information Services, Washington, DC 20549.

Extension:

Form SE, OMB Control No. 3235-0327, SEC File No. 270-289;

Form ID, OMB Control No. 3235-0328, SEC File No. 270-291;

Form ET, OMB Control No. 3235-0329, SEC File No. 270-290; and

Form TH, OMB Control No. 3235-0425, SEC File No. 270-377.

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Form SE is used by registrants to file paper copies of exhibits that would be difficult or impossible to submit electronically. The information contained in Form SE is used by the Commission to identify paper copies of exhibits and is filed by individuals, companies or other for-profit organizations that are required to file electronically. It is estimated that 110 registrants file Form SE at an estimated 0.10 hours per response for a total annual burden of 11 hours.

Form ID is used by companies to apply for identification numbers and passwords used in conjunction with the EDGAR electronic filing system. The information provided on Form ID is essential to the security of the EDGAR system. Form ID must be filed every time a registrant or other person obtains or changes an identification number. The form is filed by individuals, companies or other for-profit organizations that are required to file electronically. It is estimated that 7,000 registrants file Form ID at an estimated 0.15 hours per response for a total annual burden of 1,050 hours.

Form ET is used by companies to facilitate the transfer of information submitted to the Commission on magnetic tapes to the EDGAR system. Form ET provides technical information about the magnetic tape cartridge contents and identifies a contact person who can answer any questions about the tape cartridge. Form ET must be filed every time a filing is submitted to the Commission on magnetic tape to identify such filings. The form is filed by individuals, companies or other for-profit organizations that are required to file electronically. It is estimated that 120 registrants file Form ET at an estimated 0.25 hours per response for a total annual burden of 30 hours.

Form TH is used by registrants to notify the Commission that an electronic filer is relying on the temporary hardship exemption for the filing of a document in paper format that would otherwise be required to file electronically as prescribed by Rule 201(a) of Regulation S-T. The form must be filed every time an electronic filer experiences unanticipated technical difficulties preventing the timely preparation and submission of a required electronic filing. It is estimated that 15 registrants file Form TH at an estimated 0.33 hours per response for a total annual burden of 5 hours.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW., Washington, DC 20549.

Dated: February 8, 2001.
Margaret H. McFarland,
Deputy Secretary.

[FR Doc. 01-4257 Filed 2-20-01; 8:45 am]

BILLING CODE 8010-01-M